DEPARTMENT OF THE INTERIOR

Fish and Wildlife Service

[FWS-R4-R-2009-N198; 40136-1265-0000-S3]

Holla Bend National Wildlife Refuge, Pope and Yell Counties, AR

AGENCY: Fish and Wildlife Service, Interior.

ACTION: Notice of availability: Draft comprehensive conservation plan and environmental assessment; request for comments.

SUMMARY: We, the U.S. Fish and Wildlife Service (Service), announce the availability of a draft comprehensive conservation plan and environmental assessment (Draft CCP/EA) for Holla Bend National Wildlife Refuge (NWR) for public review and comment. In this Draft CCP/EA, we describe the alternative we propose to use to manage this refuge for the 15 years following approval of the final CCP.

DATES: To ensure consideration, we must receive your written comments by February 8, 2010.

ADDRESSES: Send comments, questions, and requests for information to: Mr. Durwin Carter, Holla Bend National Wildlife Refuge, 10448 Holla Bend Road, Dardanelle, AR 72834; telephone: 479-229-4300; e-mail: durwin_carter@fws.gov. The Draft CCP/EA is available on compact disk or in hard copy. The Draft CCP/EA may also be accessed and downloaded from the Service's Internet Site: http://southeast.fws.gov/planning.

FOR FURTHER INFORMATION CONTACT: Mr. Mike Dawson, Refuge Planner, Jackson, MS; telephone: 601-965-4903, extension 20.

SUPPLEMENTARY INFORMATION:

Introduction

With this notice, we continue the CCP process for Holla Bend NWR. We started the process through a notice in the Federal Register on May 17, 2007 (72 FR 27837).

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

CCP Alternatives, Including Our Proposed Alternative

We developed four alternatives for managing the refuge and chose Alternative D as the proposed alternative. Each alternative would pursue the same four broad refuge goals—wildlife, habitat, public use, and refuge administration. A full description is in the Draft CCP/EA. We summarize each alternative below.

Alternative A—Current Management (No Action)

Alternative A would continue current management strategies, with little or no change in budgeting or funding. Under this alternative, we would protect, maintain, restore, and enhance 6,616 acres of refuge lands and 441 additional acres included in a migratory bird closure area around the refuge, primarily focusing on the needs of migratory waterfowl. We would place additional emphasis on the needs of resident wildlife, migratory non-game birds, and threatened and endangered species. We would continue cooperative farming on 1,200 acres. We would continue mandated activities for protection of federally listed species. Control of nuisance wildlife populations would be undertaken as necessary. Habitat management efforts would concentrate on moist-soil management, waterfowl impoundments, and crop production. We would continue to monitor invasive plants.

We would maintain the current levels of wildlife-dependent recreation activities (e.g., hunting, fishing, wildlife observation, wildlife photography, and environmental education and interpretation). We would maintain two designated hiking trails, a 10-mile, self-guided auto tour route (for wildlife observation and photography), and three boat launch ramps with gravel parking areas, to the extent that these facilities would not substantially interfere with or detract from wildlife conservation. The refuge would continue to be closed to all migratory bird hunting, but would be opened to deer hunting, using archery/crossbow and gun, with the exception of a small tract adjacent to the Levee Trail. Turkeys, rabbits, squirrels, coyotes, beavers, raccoons, and bobcats would also be allowed to be taken incidental to deer hunting, and on certain designated days there would be special hunts for raccoons and turkeys. Sport fishing would be permitted in all refuge waters from March 1 to October 31 each year. The refuge would be closed to fishing during the winter months to limit disturbance of wintering waterfowl (except for bank fishing on Long Lake from November 1 to February 28).

Under this alternative, we would pursue opportunities that arise to purchase or exchange priority tracts within the refuge acquisition boundary, which include 1,703 acres in private ownership distributed in numerous small tracts around the perimeter of the refuge.

We would not have a dedicated park ranger (visitor services), but staff would continue to provide environmental education services to the public, including limited visits to schools, environmental education workshops, and on-site and off-site environmental education programs. We would continue to maintain exhibits in the visitor center, a kiosk outside the visitor center, and one on the Woodpecker Interpretive Trail.

We would continue to offer opportunities for wildlife observation and photography throughout the refuge, accessible along the refuge road system from March 16 to November 14, but with the addition of a wildlife observation deck next to the visitor center. We would maintain a staff of 4, including the refuge manager, office assistant, maintenance mechanic, and equipment operator. We would maintain the refuge headquarters, visitor center, maintenance building and yard, roads, gates, and equipment such as road grader, tractors, dozers, and backhoe.

Alternative B—Enhanced Management of Habitat and Fish and Wildlife Populations

Alternative B reflects an increase in management of habitat and fish and wildlife populations. In addition to the activities described under Alternative A, we would develop baseline inventories of biota and habitat potential, including inventories of forest conditions, aquatic species, and suitable woodcock habitat. We would broaden our focus on migratory waterfowl to include objectives for forest-dwelling and early successional birds, shorebirds, woodcock, colonial waterbirds, marsh birds, and wood ducks. In addition to continuing mandated activities for protection of federally listed species, we would develop a strategy to address these threatened and endangered species, as well as State-listed rare species. We would develop a database and monitor deer herd status, trends in wild turkey populations, and the presence of waterbird rookeries. Data on nuisance wildlife would be collected and aggressive control measures initiated.

Habitat management would include converting 125 acres from agricultural production to grassland and scrub/shrub habitat. By utilizing force account farming, the cropland acreage on the refuge would be reduced by 25 percent and crops would be converted to preferred waterfowl foods. We would also aggressively monitor non-native plants and implement a plan to eliminate them. Enhancements in the management of moist-soil habitat would include developing complete water control capability on all moist-soil acres and using periodic disturbance to set back succession. Further, we would pursue cooperative projects to improve habitat quality on about 500 acres of open water. Waterfowl usage and shorebird response to habitat management would be monitored.

Under this alternative, we would pursue opportunities to purchase or exchange tracts within the refuge acquisition boundary that would enhance fish and wildlife management. The staff would increase by the addition of a biologist, biological science technician, and park ranger (law enforcement). Wildlife-dependent recreation activities would be the same as under Alternative A.

Alternative C—Enhanced Management for Wildlife-Dependent Public Uses

This alternative represents an increased focus on wildlife-dependent public uses, rather than more emphasis on management of fish and wildlife populations and habitat as described under Alternative B. In addition to the activities described under Alternative A, we would increase wildlife-dependent recreation activities (e.g., hunting, fishing, wildlife observation, wildlife photography, and environmental education and interpretation).

The two most significant enhancements under this alternative would be the development of an environmental education center and the addition of a park ranger (visitor services) to the staff. These enhancements would greatly increase our capability to conduct environmental education and interpretation programs, and to better utilize qualified volunteers in support of Holla Bend NWR's mission and objectives. In addition to the park ranger, the staff would increase by the addition of an operations specialist and a heavy equipment mechanic. One function of the park ranger would be to develop a plan for recruiting and effectively managing volunteer support.

This alternative would include construction of fishing piers at both Long Lake and Lodge Lake to be accessible by disabled individuals; development of a bird observation trail north of the refuge office; improvements to the Lodge Lake Trail and the loop to the Levee Trail; and vegetation management along refuge roads to improve wildlife viewing opportunities. Information kiosks, direction signs, parking lots, and other visitor use facilities would be improved. Under this alternative, we would determine the maximum number of archery hunters that refuge resources could support, and we would open a dove hunting season.

We would pursue opportunities to purchase or exchange tracts within the refuge acquisition boundary that would enhance the public use program.

Alternative D—Balanced Enhancement of Management for Habitat, Fish and Wildlife Populations, and Wildlife-Dependent Public Uses (Proposed Alternative)

This adaptive management alternative is basically concurrent implementation of selected enhancements under Alternatives B and C, which would result in greater benefits to the refuge and the surrounding area. For example, the baseline biological information developed under Alternative B would be useful in identifying opportunities to improve visitor experiences, and the increased volunteer support management developed under Alternative C would lead to increased efficiencies in collecting data on biological resources and responses (e.g., nuisance and invasive species occurrence, deer herd status, and evaluation of habitat management efforts) identified under Alternative B.

Habitat management would include converting 100 acres from agricultural production to grassland and scrub/shrub habitat; cooperative farming would continue on 1,200 acres. To the extent possible, crops would be converted to preferred waterfowl foods. We would monitor non-native plants and develop a strategy to eliminate them. Enhancements in the management of moist-soil habitat would include developing complete water control capability on all moist-soil acres and use of periodic disturbance to set back succession. Further, the Service would pursue cooperative projects to improve habitat quality on 500 acres of open water. Waterfowl usage and shorebird response to habitat management would be monitored.

The two significant enhancements in the public use program would be development of an environmental education center on the refuge and the addition of a park ranger (visitor services) to the staff. These enhancements would greatly increase our capability and opportunity to conduct environmental education and interpretation programs, and to better utilize qualified volunteers in support of Holla Bend NWR's mission and objectives. One responsibility of the park ranger would be to develop a plan for recruiting and effectively managing volunteer support. Wildlife-dependent recreation activities would be the same as under Alternative A.

This alternative would include the construction of a fishing pier at Lodge Lake to be accessible by disabled individuals; development of a bird observation trail north of the refuge office; improvements to the Lodge Lake Trail and the loop to the Levee Trail; and selective vegetation management along refuge roads to improve wildlife viewing opportunities. Information kiosks, direction signs, parking lots, and other visitor use facilities also would be improved to the extent feasible. We would determine the maximum number of archery hunters that refuge resources could support, and we would evaluate the feasibility of adding a dove season.

We would pursue opportunities to purchase or exchange priority tracts within the refuge acquisition boundary, which includes 1,703 acres in private ownership distributed in numerous small tracts around the perimeter of the refuge.

The staff would include a refuge manager, deputy refuge manager, heavy equipment operator, and office assistant, and would be increased to also include a biologist and biological science technician, a park ranger (visitor services), a park ranger (law enforcement), an operations specialist, and a heavy equipment mechanic.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: October 15, 2009.
Jacquelyn B. Parrish,
Acting Regional Director.

[FR Doc. 2010-101 Filed 1-7-10; 8:45 am]

BILLING CODE 4310-55-P